POSTAL RATE COMMISSION

Plant Tours

AGENCY: Postal Rate Commission.

ACTION: Notice of Commission tours.

SUMMARY: Postal Rate Commissioners and staff members will tour several facilities in March and April. The purpose of the tours is to observe various printing, mailing and shipping operations.

DATES: 1. March 26-27, 2003: FedEx facility (Memphis, TN).

2. March 28, 2003: The Oxford Eagle (Oxford, MS).

3. April 11, 2003: AOL/Time Warner (Birmingham, AL).

4. April 15, 2003: Brookhaven/Prentiss Printers (Brookhaven, MS).

FOR FURTHER INFORMATION CONTACT: Stephen L. Sharfman, General Counsel, 202-789-6818.

Steven W. Williams,
Secretary.

[FR Doc. 03-6251 Filed 3-14-03; 8:45 am]

BILLING CODE 7710-FW-M